OFFICE OF PERSONNEL MANAGEMENT

Excepted Service

AGENCY: Office of Personnel Management.

ACTION: Notice.

SUMMARY: This gives notice of OPM decisions, granting authority to make appointments under Schedule A and Schedule C in the excepted service as required by 5 CFR 6.1 and 213.103.

FOR FURTHER INFORMATION CONTACT: Deborah Grade, Acting Director, Division for Human Resources Products and Services, Center for Talent Services, Washington Services Branch (202) 606-5027.

SUPPLEMENTARY INFORMATION: Appearing in the listing below are 1 Schedule A authority and the individual authorities established under Schedule C between March 1, 2003, and March 31, 2003. Future notices will be published on the fourth Tuesday of each month, or as soon as possible thereafter. A consolidated listing of all authorities as of June 30 is published each year.

Schedule A

Department of Homeland Security

Up to 50 positions at the GS-5 through 15 grade levels at the Department of Homeland Security. No new appointments may be made under this authority after March 30, 2004.

Schedule B

No Schedule B's during March 2003.

Schedule C

The following Schedule C authorities were approved during March 2003:

Department of Agriculture

Deputy Executive Director to the Executive Director, Center for Nutrition Policy and Promotion. Effective March 10, 2003.

Special Assistant to the Under Secretary for Natural Resources and Environment. Effective March 25, 2003.

Confidential Assistant to the Under Secretary for Marketing and Regulatory Programs. Effective March 27, 2003.

Department of the Army (DOD)

Special Assistant to the Assistant Secretary for Financial Management and Comptroller. Effective March 6, 2003.

Assistant for Water Resources to the Deputy Assistant Secretary of the Army (Legislation). Effective March 10, 2003.

Department of Commerce

Confidential Assistant to the Deputy Assistant Secretary for Export Promotion Service. Effective March 7, 2003.

Director for Speechwriting to the Director of Public Affairs. Effective March 13, 2003.

Deputy Director to the Director, Office of Public Affairs. Effective March 13, 2003.

Senior Advisor to the Under Secretary for International Trade. Effective March 13, 2003.

Congressional Affairs Specialist to the Director of Legislative Affairs. Effective March 18, 2003.

Director, Intergovernmental Affairs to the Deputy Assistant Secretary for Programs Research and Evaluation. Effective March 19, 2003.

Department of Defense

Senior Associate Director, Office of Global Communications to the Deputy Under Secretary of Defense (Installations and Environment). Effective March 4, 2003.

Staff Assistant to the Assistant Secretary of Defense (International Security Policy). Effective March 6, 2003.

Defense Fellow to the Special Assistant to the Secretary of Defense for White House Liaison. Effective March 7, 2003.

Staff Assistant and Regional Director for the Levant to the Deputy Under Secretary of Defense (Special Plans and Near East/South Asia). Effective March 11, 2003.

Special Assistant to the Assistant Secretary of Defense for Public Affairs. Effective March 12, 2003.

Personal and Confidential Assistant to the Principal Deputy Under Secretary of Defense for Policy. Effective March 12, 2003.

Public Affairs Specialist to the Deputy Assistant Secretary of Defense for Public Affairs (Communications). Effective March 18, 2003.

Department of Education

Deputy Secretary's Regional Representative—Region III to the Deputy Assistant Secretary for Regional Services. Effective March 3, 2003.

Special Assistant to the Under Secretary. Effective March 3, 2003.

Confidential Assistant to the Deputy Assistant Secretary. Effective March 6, 2003.

Special Assistant to the Special Assistant to the Secretary. Effective March 7, 2003.

Special Assistant to the Special Assistant to the Secretary. Effective March 7, 2003.

Confidential Assistant to the Director, White House Liaison. Effective March 10, 2003.

Executive Assistant to the General Counsel. Effective March 10, 2003.

Associate Deputy Under Secretary for Improvement and Reform to the Deputy Under Secretary for Innovation and Improvement. Effective March 10, 2003.

Special Assistant to the Chief of Staff. Effective March 20, 2003.

Special Assistant to the Associate Deputy Under Secretary. Effective March 21, 2003.

Special Assistant to the Assistant Secretary for Civil Rights. Effective March 25, 2003.

Special Assistant to the Assistant Secretary for Post Secondary Education. Effective March 27, 2003.

Department of Energy

Special Assistant to the Assistant Secretary (Consumerable and Renewable Energy). Effective March 4, 2003.

Senior Policy Advisor to the Secretary for the Department of Energy. Effective March 6, 2003.

Director, Office of Energy Reliability to the Director, Office of Energy Assurance. Effective March 6, 2003.

Communications Advisor to the Assistant Secretary of Energy (Environmental Management). Effective March 6, 2003.

Deputy White House Liaison to the Deputy Chief of Staff. Effective March 17, 2003.

Special Assistant to the Assistant Secretary (Conservation and Renewal Energy). Effective March 31, 2003.

Department of Health and Human Services

Special Assistant to the Executive Secretary. Effective March 3, 2003.

Special Assistant to the White House Liaison for Political Personnel, Boards and Commissioners. Effective March 19, 2003.

Special Assistant to the Chief of Staff. Effective March 27, 2003.

Department of Homeland Security Agency

Staff Assistant to the Special Assistant to the Secretary, Private Sector. Effective March 3, 2003.

Scheduler to the Secretary of the Department of Homeland Security. Effective March 10, 2003.

Research Assistant to the Assistant Secretary for Public Affairs. Effective March 17, 2003.

Policy Analyst to the Under Secretary for Border and Transportation Security. Effective March 18, 2003.

Personal Assistant to the Secretary. Effective March 19, 2003.

Executive Assistant to the Under Secretary for Science and Technology. Effective March 19, 2003.

Special Assistant to the Assistant Secretary for Infrastructure Protection. Effective March 21, 2003.

Director of Speechwriting to the Assistant Secretary for Public Affairs. Effective March 24, 2003.

Information Technology Specialist (INET) to the Assistant Secretary for Public Affairs. Effective March 26, 2003.

Staff Assistant to the Director, State and Local Coordination. Effective March 28, 2003.

Staff Assistant to the Under Secretary for Science and Technology. Effective March 31, 2003.

Department of Housing and Urban Development

Deputy Director for Advance to the Director of Executive Scheduling and Operations. Effective March 12, 2003.

Deputy Director for Scheduling to the Director for Executive Scheduling and Operations. Effective March 14, 2003.

Staff Assistant to the Assistant Deputy Secretary for Field Policy and Management. Effective March 14, 2003.

Special Assistant to the Assistant Secretary for Public and Indian Housing. Effective March 14, 2003.

Staff Assistant to the Assistant Secretary for Community Planning and Development. Effective March 14, 2003.

Director of Executive Scheduling and Operations to the Assistant Secretary for Administration. Effective March 18, 2003.

Staff Assistant to the Director of Executive Scheduling and Operations. Effective March 20, 2003.

Special Assistant to the Assistant Secretary for Congressional/Intergovernmental Relations. Effective March 27, 2003.

Department of the Interior

Special Assistant to the White House Liaison. Effective March 17, 2003.

Department of Justice

Special Assistant to the Assistant Attorney General, Criminal Division. Effective March 6, 2003.

Special Assistant to the Assistant Attorney General, (Legal Policy). Effective March 11, 2003.

Special Assistant to the Director for Public Affairs. Effective March 20, 2003.

Special Assistant to the Director for Intergovernmental and Public Liaison. Effective March 21, 2003.

Department of Labor

Secretary's Representative to the Associate Secretary for Congressional and Intergovernmental Affairs. Effective March 19, 2003.

Staff Assistant to the Assistant Secretary for Public Affairs. Effective March 28, 2003.

Department of State

Special Assistant to the Deputy Secretary. Effective March 18, 2003.

Special Assistant to the Assistant Secretary for Education and Cultural Affairs. Effective March 21, 2003.

Member, Policy Planning Staff to the Director, Policy Planning Staff. Effective March 21, 2003.

Director, Office of Public Liaison to the Assistant Secretary, Bureau of Public Affairs. Effective March 21, 2003.

Foreign Affairs Officer to the Assistant Secretary, Democracy Rights and Human Labor. Effective March 21, 2003.

Legislative Management Officer to the Assistant Secretary for Legislative and Intergovernmental Affairs. Effective March 31, 2003.

Department of Transportation

Deputy Assistant Secretary to the Assistant Secretary for Governmental Affairs. Effective March 7, 2003.

Department of the Treasury

Executive Assistant to the Secretary. Effective March 6, 2003.

Special Assistant to the Assistant Secretary for Management and Chief Financial Officer. Effective March 6, 2003.

Public Affairs Specialist to the Director, Public Affairs. Effective March 31, 2003.

Environmental Protection Agency

Assistant Associate Administrator/Press Secretary to the Associate Administrator for Public Affairs. Effective March 21, 2003.

Public Affairs Specialist to the Associate Administrator for Public Affairs. Effective March 28, 2003.

Program Advisor to the Associate Administrator for Public Affairs. Effective March 28, 2003.

General Services Administration

Congressional Relations Analyst to the Associate Administrator for Congressional and Intergovernmental Affairs. Effective March 5, 2003.

Senior Advisor to the Regional Administrator, Region 3, Philadelphia, Pennsylvania. Effective March 13, 2003.

National Aeronautics and Space Administration

Special Assistant to the Inspector General. Effective March 26, 2003.

Public Affairs Specialist to the Assistant Associate Administrator for Public Affairs. Effective March 26, 2003.

Special Assistant to the Assistant Administrator for Legislative Affairs. Effective March 27, 2003.

National Endowment for the Arts

Director of Communications to the Chairman, National Endowment for the Arts. Effective March 6, 2003.

National Transportation Safety Board

Counselor to the Chairman, National Transportation Safety Board. Effective March 26, 2003.

Office of Management and Budget

Deputy to the Associate Director for Legislative Affairs (House) to the Associate Director for Legislative Affairs. Effective March 7, 2003.

Deputy to the Associate Director to the Associate Director for Legislative Affairs (Senate). Effective March 10, 2003.

Confidential Assistant to the Associate Director for Legislative Affairs. Effective March 24, 2003.

Office of National Drug Control Policy

Project Coordinator to the Chief of Staff. Effective March 5, 2003.

Overseas Private Investment Corporation

Executive Assistant to the President. Effective March 19, 2003.

Office of Personnel Management

Confidential Assistant/Scheduler to the Chief of Staff. Effective March 6, 2003.

Small Business Administration

Senior Advisor to the Associate Deputy Administrator for Entrepreneurial Development. Effective March 25, 2003.

U.S. International Trade Commission

Staff Assistant to a Commissioner. Effective March 13, 2003.

Authority: 5 U.S.C. 3301 and 3302; E.O. 10577, 3 CFR 1954-1958 Comp., P.218

Office of Personnel Management.
Kay Coles James,
Director.

[FR Doc. 03-10866 Filed 5-1-03; 8:45 am]

BILLING CODE 6325-38-P